DEPARTMENT OF THE INTERIOR

Bureau of Land Management

[CA-310-1820-AE]

Resource Advisory Council Meeting

AGENCY: Bureau of Land Management, Northeast California Resource Advisory Council, Susanville, California.

ACTION: Notice of meeting date change.

SUMMARY: Pursuant to the authorities in the Federal Advisory Committees Act (Pub. L. 92-463) and the Federal Land Policy and Management Act (Pub. L. 94-579), the U.S. Bureau of Land Management's Northeast California Resource Advisory Council will meet Thursday and Friday, Feb. 27 and 28, 2003, at the BLM's Eagle Lake Field Office, 2950 Riverside Dr., Susanville, CA. The meeting date is changed from an earlier announced date of January 9 and 10, 2003.

SUPPLEMENTARY INFORMATION: The original meeting notice was published in the Federal Register on December 9, 2002 (Vol. 67, No. 236, page 72969). Details, including the meeting location, starting time and agenda items, are unchanged from that publication.

FOR FURTHER INFORMATION CONTACT: Tim Burke, Alturas Field Manager, at (530) 233-4666.

Joseph J. Fontana,
Public Affairs Officer.

[FR Doc. 03-784 Filed 1-14-03; 8:45 am]

BILLING CODE 4310-40-P